DEPARTMENT OF ENERGY

Federal Energy Regulatory Commission

[Docket Nos. RP04-203-000, RP05-105-000 and RP05-164-000]

Equitrans, L.P.; Notice of Informal Settlement Conference

September 12, 2005.

Take notice that an informal settlement conference will be convened in this proceeding commencing at 10 a.m. (e.s.t.) on Thursday, September 15, 2005 and continuing, if necessary, on Friday, September 16, 2005 at 10 a.m. at the Federal Energy Regulatory Commission, 888 First Street, NE., Washington, DC 20426, for the purpose of exploring a possible settlement in the above-referenced proceeding.

FERC conferences are accessible under section 508 of the Rehabilitation Act of 1973. For accessibility accommodations please send an e-mail to accessibility@ferc.gov or call toll free 1-866-208-3372 (voice) or 202-208-1659 (TTY), or send a FAX to 202-208-2106 with the required accommodations.

Any party, as defined by 18 CFR 385.102(c), or any participant as defined by 18 CFR 385.102(b), is invited to attend. Persons wishing to become a party must move to intervene and receive intervenor status pursuant to the Commission's regulations (18 CFR 385.214).

For additional information, please contact Lorna J. Hadlock (202-502-8737).

Magalie R. Salas,
Secretary.

[FR Doc. E5-5099 Filed 9-16-05; 8:45 am]

BILLING CODE 6717-01-P